Executive Order 14088 of October 24, 2022

Taking Additional Steps To Address the National Emergency With Respect to the Situation in Nicaragua

By the authority vested in me as President by the Constitution and the laws of the United States of America, including the International Emergency Economic Powers Act (50 U.S.C. 1701 et seq.), the National Emergencies Act (50 U.S.C. 1601 et seq.), the Nicaragua Investment Conditionality Act of 2018 (50 U.S.C. 1701 note), section 212(f) of the Immigration and Nationality Act of 1952 (8 U.S.C. 1182(f)), and section 301 of title 3, United States Code,

I, JOSEPH R. BIDEN JR., President of the United States of America, in order to take additional steps with respect to the national emergency declared in Executive Order 13851 of November 27, 2018 (Blocking Property of Certain Persons Contributing to the Situation in Nicaragua), hereby order:

Section 1. The first clause of the preamble to Executive Order 13851 is amended to read as follows:

“By the authority vested in me as President by the Constitution and the laws of the United States of America, including the International Emergency Economic Powers Act (50 U.S.C. 1701 et seq.) (IEEPA), the National Emergencies Act (50 U.S.C. 1601 et seq.) (NEA), the Nicaragua Investment Conditionality Act of 2018 (50 U.S.C. 1701 note), section 212(f) of the Immigration and Nationality Act of 1952 (8 U.S.C. 1182(f)), and section 301 of title 3, United States Code,”.

Sec. 2. Section 1 of Executive Order 13851 is amended by adding a new subsection 1(a)(i)(E) after subsection 1(a)(i)(D), to read as follows:

“(E) the arrest or prosecution of a person, including an individual or media outlet disseminating information to the public, primarily because of the exercise by such person of the freedom of expression, including for members of the press, or assembly;”.

Sec. 3. Subsections 1(a)(iv)(B) through 1(a)(v) of Executive Order 13851 are replaced with new subsections 1(a)(iv)(B) through 1(a)(vi), to read as follows:

“(B) any person whose property and interests in property are blocked pursuant to this order;

(v) to be owned or controlled by, or to have acted or purported to act for or on behalf of, directly or indirectly, any person whose property and interests in property are blocked pursuant to this order; or

(vi) to operate or have operated in the gold sector of the Nicaraguan economy or in any other sector of the Nicaraguan economy as may be determined by the Secretary of the Treasury, in consultation with the Secretary of State.”.

Sec. 4. Subsection 1(b) of Executive Order 13851 is replaced with a new subsection 1(b), to read as follows:

“(b) The following are prohibited:

(i) the importation into the United States of any products of Nicaraguan origin as may be determined by the Secretary of the Treasury, in consultation with the Secretary of State and the Secretary of Commerce;

(ii) the exportation, reexportation, sale, or supply, directly or indirectly, from the United States, or by a United States person, wherever located, of any items as may be determined by the Secretary of Commerce, in consultation with the Secretary of State and the Secretary of the Treasury, to any person located in Nicaragua;

(iii) new investment in any sector of the Nicaraguan economy as may be determined by the Secretary of the Treasury, in consultation with the Secretary of State, by a United States person, wherever located; and

(iv) any approval, financing, facilitation, or guarantee by a United States person, wherever located, of a transaction by a foreign person where the transaction by that foreign person would be prohibited by this subsection if performed by a United States person or within the United States.”.

Sec. 5. Section 1 of Executive Order 13851 is amended by adding a new subsection 1(c) after subsection 1(b), to read as follows:

“(c) The prohibitions in subsections (a) and (b) of this section apply except to the extent provided by statutes, or in regulations, orders, directives, or licenses that may be issued pursuant to this order, or pursuant to the export control authorities implemented by the Department of Commerce, and notwithstanding any contract entered into or any license or permit granted prior to the date of this order.”.

Sec. 6. Section 8 of Executive Order 13851 is revised to read as follows:

“Sec. 8. The Secretary of the Treasury and the Secretary of Commerce, in consultation with the Secretary of State, are hereby authorized to take such actions, including the promulgation of rules and regulations, and to employ all powers granted to the President by IEEPA, as may be necessary to carry out the purposes of this order. The Secretary of the Treasury and the Secretary of Commerce may, consistent with applicable law, redelegate any of these functions within the Department of the Treasury and the Department of Commerce, respectively. All executive departments and agencies of the United States shall take all appropriate measures within their authority to implement this order.”.

Sec. 7. Section 9 of Executive Order 13851 is revised to read as follows:

“Sec. 9. The Secretary of the Treasury, in consultation with the Secretary of State and the Secretary of Commerce, is hereby authorized to submit the recurring and final reports to the Congress on the national emergency declared in this order, consistent with section 401(c) of the NEA (50 U.S.C. 1641(c)) and section 204(c) of IEEPA (50 U.S.C. 1703(c)).”.

Sec. 8. (a) Nothing in this order shall be construed to impair or otherwise affect:

(i) the authority granted by law to an executive department or agency, or the head thereof; or

(ii) the functions of the Director of the Office of Management and Budget relating to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.

THE WHITE HOUSE,

October 24, 2022.

[FR Doc. 2022-23433

Filed 10-25-22; 8:45 am]

Billing code 3395-F3-P